DEPARTMENT OF VETERANS AFFAIRS

Rehabilitation Research and Development Service Scientific Merit Review Board; Notice of Meeting

The Department of Veterans Affairs (VA) gives notice under Public Law 92-463 (Federal Advisory Committee Act) that a meeting of the Rehabilitation Research and Development Service Scientific Merit Review Board will be held on March 6-8 and 13-14, 2012, at the Hyatt Regency Crystal City, 2799 Jefferson Davis Highway, Arlington, VA, from 8 a.m. to 5 p.m. each day. The following subcommittees of the Board will meet to evaluate merit review applications:

March 6—Aging and Neurodegenerative Disease.

March 6-7—Brain Injury: Traumatic Brain Injury (TBI) and Stroke; Musculoskeletal/Orthopedic Rehabilitation; Psychological Health and Social Reintegration; and Regenerative Medicine.

March 6-8—Rehabilitation Engineering and Prosthetics/Orthotics.

March 7—Career Development Award Program.

March 13—Spinal Cord Injury.

March 13-14—Brain Injury: TBI and Stroke; Career Development Award Program; Psychological Health and Social Reintegration; and Sensory Systems/Communication.

The purpose of the Board is to review rehabilitation research and development applications and advise the Director, Rehabilitation Research and Development Service, and the Chief Research and Development Officer on the scientific and technical merit, the mission relevance, and the protection of human and animal subjects.

A general session of each subcommittee meeting will be open to the public for approximately one hour at the start of each meeting to cover administrative matters and to discuss the general status of the program. The remaining portion of each subcommittee meeting will be closed to the public for the discussion, examination, reference to, and oral review of the research applications and critiques. No oral or written comments will be accepted from the public for either portion of the meetings.

During the closed potion of each meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

Those who plan to attend the general session should contact Tiffany Asqueri, Designated Federal Officer, Rehabilitation Research and Development Service, at Department of Veterans Affairs (10P9R), 810 Vermont Avenue NW., Washington, DC 20420, or email at tiffany.asqueri@va.gov. For further information, please call Mrs. Asqueri at (202) 443-5757.

Dated: February 13, 2012.
By Direction of the Secretary.
Vivian Drake,
Committee Management Officer.

[FR Doc. 2012-3741 Filed 2-16-12; 8:45 am]

BILLING CODE P